DEPARTMENT OF TRANSPORTATION

Office of the Secretary

49 CFR Part 10

[Docket No. DOT-OST-2016-0028]

RIN 2105-AE76

Maintenance of and Access to Records Pertaining to Individuals; Correction

AGENCY: Office of the Secretary (OST), U.S. Department of Transportation (DOT).

ACTION: Proposed rule; correction.

SUMMARY: The Department of Transportation is correcting a notice published on February 6, 2019 issue of the Federal Register entitled “Maintenance of and Access to Records Pertaining to Individuals”. This correction amends the Docket Number of the notice from DOT-OST-2017-0028 to read DOT-OST-2016-0028.

DATES: Effective February 6, 2019.

FOR FURTHER INFORMATION CONTACT: Claire Barrett, Departmental Chief Privacy Officer, Office of the Chief Information Officer, U.S. Department of Transportation, 1200 New Jersey Avenue SE, Washington, DC 20590 or privacy@dot.gov or (202) 366-8135.

SUPPLEMENTARY INFORMATION:

Correction

In FR Doc. Federal Register at 84-2137 appearing on pages 2137-2138 in the Federal Register of Wednesday, February 6, 2019, the following corrections are made:

On page 2137, in the first column in the Title section, “Docket No. DOT-OST-2017-0028 is corrected to read, “Docket No. DOT-OST-2016-0028.

On page 2137, in the first column in the ADDRESSES section, “You may file comments identified by the docket number DOT-OST-2017-0028 . . .” is corrected to read, “You may file comments identified by the docket number DOT-OST-2016-0028 . . .”

On page 2137, in the second column in the “Instructions” section, “You must include the agency name and docket number DOT-OST-2017-0028 . . .” is corrected to read, “You must include the agency name and docket number DOT-OST-2016-0028 . . .”

Dated: February 15, 2019.
Claire W. Barrett,
Chief Privacy Officer.

[FR Doc. 2019-02956 Filed 2-20-19; 8:45 am]

BILLING CODE 4910-9X-P